ENVIRONMENTAL PROTECTION AGENCY

[FRL-10022-63-OCFO]

Privacy Act of 1974; System of Records

AGENCY: Office of the Chief Financial Officer (OCFO), Environmental Protection Agency (EPA).

ACTION: Notice of a new system of records.

SUMMARY: The U.S. Environmental Protection Agency's (EPA), Office of the Chief Financial Officer, Office of Technology Solutions is giving notice that it proposes to create a new system of records pursuant to the provisions of the Privacy Act of 1974. The e-Recovery system of records (EPA-90) is being created to replace the Superfund Cost Recovery Package Imaging and On-Line System (SCORPIOS) system of records (EPA-39). The e-Recovery system will be used to organize cost information and produce reports that summarize the costs for a specific Superfund Response or Oil Removal site, and will also be used to track Federal Emergency Management Agency (FEMA) mission assignment costs. The information previously stored in SCORPIOS will be stored in the e-Recovery system.

DATES: Persons wishing to comment on this system of records notice must do so by July 12, 2021. New routine uses for this new system of records will be effective July 12, 2021.

ADDRESSES: Submit your comments, identified by Docket ID No., EPA-HQ-OMS-2019-0649 by one of the following methods:

Regulations.gov: www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2019-0649. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through www.regulations.gov your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Andrew Lam, Ronald Reagan Building, 1300 Pennsylvania Ave. NW, Washington, DC 20460, Office of Chief Financial Officer, (202) 564-2925, Lam.Andrew@epa.gov.

SUPPLEMENTARY INFORMATION: EPA has the authority to recover costs associated with its response to releases or threatened releases of hazardous substances, or discharges or threatened discharges of oil. EPA will use the e-Recovery system to organize and produce reports detailing this cost information. To support the recovery of certain removal costs associated with threatened or actual discharges of oil, EPA submits a Cost Recovery Package (CRP) to the U.S. Coast Guard (USCG). Previously, EPA used SCORPIOS to prepare the CRP; however, because SCORPIOS uses old technology that has become difficult and expensive for the Agency to maintain, the SCORPIOS system will be replaced with the more modern e-Recovery system. SCORPIOS will be decommissioned once e-Recovery goes live.

SYSTEM NAME AND NUMBER:

e-Recovery, EPA-90.

SECURITY CLASSIFICATION:

Unclassified.

SYSTEM LOCATION:

109 T.W. Alexander Drive, NCC Building, Durham, NC 27711.

SYSTEM MANAGER(S):

Michael Clanton, Director, Office of Technology Solutions, (202) 564-1084, Clanton.Michael@epa.gov, Ronald Reagan Building, 1300 Pennsylvania Ave. NW, Washington, DC 20460.

AUTHORITY FOR MAINTENANCE OF THE SYSTEM:

Comprehensive Environmental Response, Compensation, and Liability Act of 1980, 42 U.S.C. 9607; 5 U.S.C. 301; 31 U.S.C. 3512; Executive Order 9397 (Nov. 22, 1943); Federal Water Pollution Control Act, as amended by the Federal Water Pollution Control Act Amendments of 1972 (Clean Water Act), 33 U.S.C. 1321; National Oil and Hazardous Substances Pollution Contingency Plan, 40 CFR part 300.

PURPOSE(S) OF THE SYSTEM:

The e-Recovery system will maintain and organize cost information associated with responding to releases or threatened releases of hazardous substances or discharges or threatened discharges of oil, and will be used to track FEMA mission assignment costs. EPA will use the information stored in this system to produce cost reports, which will be used to support the Agency's recovery of its clean-up costs from responsible parties. EPA, the U.S. Department of Justice, and the U.S. Coast Guard will also use this information for litigation support purposes.

CATEGORIES OF INDIVIDUALS COVERED BY THE SYSTEM:

EPA employees, EPA contractors, non-EPA government personnel, state and local government personnel and/or private citizens.

CATEGORIES OF RECORDS IN THE SYSTEM:

The e-Recovery system will store the following information: Social security number, name, home address, credit card number, other credit card information, driver's license number, other personal identification numbers (i.e., home phone numbers, membership numbers, personal license plates, etc.) and other personal information related to travel expenses such as home addresses, credit card numbers, and other recoverable expense items.

RECORD SOURCE CATEGORIES:

The primary source of data for e-Recovery is the Compass Data Warehouse (CDW). CDW is a system that consolidates financial data from several enterprise systems, such as Compass, Integrated Grants Management System (IGMS), People Plus, EPA Acquisition System (EAS), and Payment Tracking System (PTS), into a single relational database. All of the data that resides in the CDW originates from the enterprise systems and is a duplicate of data from the original source.

ROUTINE USES OF RECORDS MAINTAINED IN THE SYSTEM, INCLUDING CATEGORIES OF USERS AND PURPOSES OF SUCH USES:

The routine uses below are both related to and compatible with the original purpose for which the information was collected. The following general routine uses apply to this system (73 FR 2245): General routine uses A, F, G, H, I, K, L, and M.

A. Disclosure for Law Enforcement Purposes: Information may be disclosed to the appropriate Federal, State, local, tribal, or foreign agency responsible for investigating, prosecuting, enforcing, or implementing a statute, rule, regulation, or order, if the information is relevant to a violation or potential violation of civil or criminal law or regulation within the jurisdiction of the receiving entity.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components,

Is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

K. Disclosure in Connection With Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12.

L. Disclosure to Persons or Entities in Response to an Actual or Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to Assist Another Agency in Its Efforts to Respond to a Breach of Personally Identifiable Information: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained electronically in computer databases and backup disks. Incremental backups run weeknights (Monday through Thursday), full backups run every weekend (Friday PM through Monday AM). These backups are maintained at the National Computer Center (NCC), 109 T.W. Alexander Drive, Durham, NC 27711.

POLICIES AND PRACTICES FOR RETRIEVAL OF RECORDS:

Records are retrieved by employee last name, pay period, and Superfund site identification number.

POLICIES AND PRACTICES FOR RETENTION AND DISPOSAL OF RECORDS:

EPA will retain and dispose of these records in accordance with the National Archives and Records Administration General Records Schedule and EPA Records Schedule 0052, NARA Disposal Authority: DAA-GRS-2013-0003-0001. e-Recovery records are retained for at least 30 years after the completion of all cost recovery at a given Superfund Site.

ADMINISTRATIVE, TECHNICAL, AND PHYSICAL SAFEGUARDS:

Security controls used to protect personal and/or sensitive data in the e-Recovery system are commensurate with those required for an information system rated MODERATE for confidentiality, integrity, and availability, as prescribed in National Institute of Standards and Technology (NIST) Special Publication, 800-53, “Security and Privacy Controls for Federal Information Systems and Organizations,” Revision 5.

1. Administrative Safeguards: EPA employees and contractors are required to complete annual agency Information Security and Privacy training. EPA employees and contractors are instructed to lock their computers when they leave their desks.

2. Technical Safeguards: Computer records are maintained in a secure password protected environment. Access to computer records is limited to those who have a need to know. Personal Identification Verification (PIV) card is required to get access to e-Recovery. Permission level assignments allow users access only to those functions for which they are authorized.

3. Physical Safeguards: All records are maintained in secure, access-controlled areas or buildings.

RECORD ACCESS PROCEDURES:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, should make a written request to the EPA, Attn: Agency Privacy Officer, MC 2831T, 1200 Pennsylvania Ave. NW, Washington, DC 20460, privacy@epa.gov.

EXEMPTIONS PROMULGATED FOR THE SYSTEM:

None.

HISTORY:

Federal Register: October 1, 2001 (Volume 66, Number 190).

Vaughn Noga,
Senior Agency Official for Privacy.

[FR Doc. 2021-12230 Filed 6-10-21; 8:45 am]

BILLING CODE 6560-50-P